DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250 (b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than September 22, 2000.

Also, interested persons are invited to submit written comments regarding the subject matter of the petitions to the Director of DTAA at the address shown below not later than September 22, 2000.

Petitions filed with the Governors are available for inspection at the Office of the Director, DTAA, ETA, DOL, Room C-5311, 200 Constitution Avenue, NW., Washington, DC 20210.

Signed at Washington, D.C. this 30th day of August, 2000.
Edward A. Tomchick,
Director, Division of Trade Adjustment Assistance.

Appendix

Subject firm | Location | Date received at Governor's Office | Petition Number | Articles produced
Stanly Knitting Mills (Co.) | Oakboro, NC | 08/07/2000 | NAFTA-4,061 | jogging suits, tops & knit dresses.
Penn Machine—Marmon Group (USWA) | Johnstown, PA | 08/08/2000 | NAFTA-4,062 | locomotive products.
RMH Teleservices (Wkrs) | Sergeant Bluff, IA | 06/01/2000 | NAFTA-4,063 | teleservices.
General Motors—Desert Proving Ground (Co.) | Mesa, AZ | 08/10/2000 | NAFTA-4,064 | weather testing.
Academy Broadway (Co.) | Pine Knot, KY | 08/08/2000 | NAFTA-4,065 | sleeping bags.
Lund Induystries (Wkrs) | Anoka, MN | 08/08/2000 | NAFTA-4,066 | fiberglass truck accessories.
ABC—NACO (IBM) | Superior, WI | 08/10/2000 | NAFTA-4,067 | railroad truckwork products.
Rock Tenn (PACE) | Madison, WI | 07/27/2000 | NAFTA-4,068 | folding cartons.
Alaris Medical Systems (wkrs) | Creedmoor, NC | 08/11/2000 | NAFTA-4,069 | disposable medical devices.
Consolidated Metco Rivergate (IAMAW) | Porland, OR | 08/10/2000 | NAFTA-4,070 | parts for trucks.
Telxon Corporation (Co.) | Houston, TX | 08/11/2000 | NAFTA-4,071 | repair of handheld wireless computers.
Santtony Wear (Co.) | Rockingham, NC | 08/11/2000 | NAFTA-4,072 | undergarments.
Smith and Nephew (Co.) | Charlotte, NC | 08/11/2000 | NAFTA-4,073 | synthetic orthopedic cast tape.
Jockey International (C0.) | Randleman, NC | 08/07/2000 | NAFTA-4,074 | women's sheer hosiery & tights.
Hobman—Model Rectifier (Wkrs) | Jim Thorpe, PA | 08/14/2000 | NAFTA-4,075 | printed circuit boards.
Reynolds Metals (IAMAW) | Troudale, OR | 08/09/2000 | NAFTA-4,076 | aluminum.
Movies 99—New Movie Corp. (Wkrs) | Salk Lake City, UT | 08/08/2000 | NAFTA-4,077 | film, television & commercial production.
Wolverine World Wide (UNITE) | Kirksville, MO | 08/09/2000 | NAFTA-4,078 | work boots.
Royal Oak Enterprises (Wkrs) | Licking, MO | 08/14/2000 | NAFTA-4,079 | lump charcoal.
Louisiana Pacific (Co) | Hayden Lake, ID | 07/31/2000 | NAFTA-4,080 | lumber.
Mountaineer Precision Tool & Mold (C0.) | Waynesville, NC | 08/15/2000 | NAFTA-4,081 | injection molds for plastic parts.
Pillowtex (UNITE) | Salisbury, NC | 08/14/2000 | NAFTA-4,082 | bed sheeting materials.
Canon Business Machnes (Co.) | Costa Mesa, CA | 08/14/2000 | NAFTA-4,083 | electronic business machines.
WP Industries (Wkrs) | South Gate, CA | 08/14/2000 | NAFTA-4,084 | pottery.
GRT (Wkrs) | Sun Valley, CA | 07/24/2000 | NAFTA-4,085 | plastic injection molding supplies.
Eagle Eaton Leonard—Eagle Precision (Co.) | Carlsbad, CA | 08/07/2000 | NAFTA-4,086 | tube bending machinery.
Astro Design (CBO) | Seattle, WA | 08/18/2000 | NAFTA-4,087 | active wear garments.
Leoni Wiring Systems (Co.) | Tuscon, AZ | 08/11/2000 | NAFTA-4,088 | cables.
Tyco Electronics (Wkrs) | Sanford, ME | 08/16/2000 | NAFTA-4,089 | electronic connectors.
Midwest Electric Products (Co.) | Mankato, MN | 08/09/2000 | NAFTA-4,090 | electrical equipment.
Humpty Dumpty Snack Food (Co.) | South Portland, ME | 08/16/2000 | NAFTA-4,091 | potato chips.
Ledalite Architectural Products (Wkrs) | Kent, WA | 08/18/2000 | NAFTA-4,093 | linear lighting.
Central Point Lumber (Wkrs) | Central Point, OR | 08/14/2000 | NAFTA-4,093 | stud lumber.
A.O. Smith (Co.) | gordonsville, Tn | 08/15/2000 | NAFTA-4,094 | electric motors.
Trust Joict (Wkrs) | Engene, OR | 08/17/2000 | NAFTA-4,095 | i-beams.
Roseburg Forest Products (Co.) | Roseburg, OR | 08/17/2000 | NAFTA-4,096 | pondersoa pine & sugar pine shop.
Trinity Industries (Wkrs) | Asheville, NC | 08/18/2000 | NAFTA-4,097 | railcar parts.
Savane International (Co.) | El Paso, TX | 08/22/2000 | NAFTA-4,098 | pants.
Adirondack Knitting (Co.) | New York, NY | 08/29/2000 | NAFTA-4,099 | home furnishings.
Great Lakes Chemical—Polymer Additives (Wkrs) | Laredo, TX | 08/23/2000 | NAFTA-4,100 | antimony oxide.
Garden Grow (The) (Co.) | Wilsonville, OR | 08/24/2000 | NAFTA-4,101 | packet seed.
Freightliner (IAM) | Portland, OR | 08/23/2000 | NAFTA-4,102 | trucks.
Burlington Industries (Co.) | Stokesdale, NC | 08/24/2000 | NAFTA-4,103 | comforters, bedroom accessories.
Hennessee Apparel (Co.) | Deactur, TN | 08/28/2000 | NAFTA-4,104 | sweatshirts, t-shirts & sweaters.
Lucchese (Wkrs) | El Paso, TX | 08/23/2000 | NAFTA-4,105 | boots.
United States Leather—Lackawanna Leath (Co.) | El Paso, TX | 08/22/2000 | NAFTA-4,106 | finished leather.
American Bag (Co.) | Stearns KY | 08/23/2000 | NAFTA-4,107 | airbads.
Parker Seal (Wkrs) | Berea, KY | 08/21/2000 | NAFTA-4,108 | o-ring & shape seals.
Universal Garment Finishing (Wkrs) | Louisville, KY | 08/21/2000 | NAFTA-4,109 | garment finishing services.
JBL—Harman (Wkrs) | Northridge, CA | 08/24/2000 | NAFTA-4,110 | loudspeaker components & cabinets.
Hayden Industrial Products (Co.) | Corona, CA | 08/28/2000 | NAFTA-4,111 | truck cooling systems.
Harris Interactice (Wkrs) | Vestal, NY | 08/22/2000 | NAFTA-4,112 | market research surveys.
U.S. Textiles (Wkrs) | Newland, NC | 08/03/2000 | NAFTA-4,113 | ladies pantyhose.
Lotus Designs (Wkrs) | Weaverville, NC | 08/23/2000 | NAFTA-4,114 | life vest.
International Paper (Wkrs) | Monticello, AR | 08/07/2000 | NAFTA-4,115 | paper & poly bags.
WTTC (Wkrs) | Raymondville, TX | 08/22/2000 | NAFTA-4,116 | cut denim materials.
TRW (Wkrs) | Danville, PA | 08/24/2000 | NAFTA-4,117 | valves.
Louisiana Pacific (Wkrs) | Hines, OR | 08/24/2000 | NAFTA-4,118 | wood products.
Bulk Manufacturing (Co.) | Plant City, FL | 08/15/2000 | NAFTA-4,119 | cxargo tanks.
Corlair Corporation (Co.) | Piedmont, MO | 08/28/2000 | NAFTA-4,120 | leather vinyl business accessories.
Terex Corporation (Co.) | Tulsa, OK | 08/25/2000 | NAFTA-4,121 | dump bodies, front axles.

[FR Doc. 00-23346 Filed 9-11-00; 8:45 am]

BILLING CODE 4510-30-M